DEPARTMENT OF TRANSPORTATION

Federal Aviation Administration

14 CFR Part 39

[Docket No. FAA-2007-0176; Directorate Identifier 2007-SW-14-AD; Amendment 39-15263; AD 2007-23-17]

RIN 2120-AA64

Airworthiness Directives; Bell Helicopter Textron Canada Model 206A and 206B Helicopters

AGENCY: Federal Aviation Administration (FAA), Department of Transportation (DOT).

ACTION: Final rule; request for comments.

SUMMARY: We are adopting a new airworthiness directive (AD) for Bell Helicopter Textron Canada (BHTC) Model 206A and 206B helicopters. This AD results from mandatory continuing airworthiness information (MCAI) originated by an aviation authority to identify and correct an unsafe condition on an aviation product. The aviation authority of Canada, with which we have a bilateral agreement, states in the MCAI:

Reevaluation of the structural analysis indicates the need for the removal from service of bolts in this application.

The removal of certain main rotor latch bolts is required because these bolts do not have a mandatory retirement life. Further evaluation has shown that these bolts fail prematurely due to fatigue. This fatigue failure may result in failure of the main rotor and subsequent loss of control of the helicopter. We are issuing this AD to require actions to correct this unsafe condition on these products.

DATES: This AD becomes effective December 6, 2007.

We must receive comments on this AD by January 22, 2008.

ADDRESSES: You may send comments by any of the following methods:

• Federal eRulemaking Portal: http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to U.S. Department of Transportation, Docket Operations, M-30, West Building Ground Floor, Room W12-140, 1200 New Jersey Avenue, SE., Washington, DC 20590 between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD may contain text copied from the MCAI and for this reason might not follow our plain language principles.

Discussion

Transport Canada, which is the aviation authority for Canada, has issued Airworthiness Directive No. CF-2006-23R1, dated March 12, 2007 (referred to after this as “the MCAI”), to correct an unsafe condition for these Canadian-certificated products.

The MCAI states:

Reevaluation of the structural analysis indicates the need for the removal from service of bolts in this application.

The removal of certain main rotor latch bolts is required because these bolts do not have a mandatory retirement life. Further evaluation has shown that these bolts fail prematurely due to fatigue. This fatigue failure may result in failure of the main rotor and subsequent loss of control of the helicopter. We are issuing this AD to require actions to correct this unsafe condition on these products.

You may obtain further information by examining the MCAI in the AD docket.

Relevant Service Information

Bell Helicopter Textron has issued Alert Service Bulletin No. 206-06-109, dated July 25, 2006. The actions described in this MCAI are intended to correct the same unsafe condition identified in the service information.

FAA's Determination and Requirements of This AD

This product has been approved by the aviation authority of Canada, and is approved for operation in the United States. Pursuant to our bilateral agreement with this State of Design Authority, we have been notified of the unsafe condition described in the MCAI and the referenced service information. We are issuing this AD because we evaluated all pertinent information and determined the unsafe condition exists and is likely to exist or develop on other products of the same type design. The removal of certain bolts is required within 30 days because these bolts do not have a mandatory retirement life. Further evaluation has shown that these bolts fail prematurely due to fatigue. This fatigue failure may result in failure of the main rotor and subsequent loss of the helicopter. We are issuing this AD to require actions to correct this unsafe condition on these products.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in the “Differences Between the FAA AD and the MCAI” section within the AD.

FAA's Determination of the Effective Date

An unsafe condition exists that requires the immediate adoption of this AD. The FAA has found that the risk to the flying public justifies waiving notice and comment prior to adoption of this rule because the affected bolts may fail prematurely due to fatigue. This fatigue failure may result in failure of the main rotor and subsequent loss of the helicopter. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-0176; Directorate Identifier 2007-SW-14-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Cost of Compliance

We estimate this proposed AD would affect about 1463 products of U.S. registry. We also estimate that it would take about 6 work hours per helicopter to replace affected bolts if not done as part of the scheduled main rotor hub disassembly. The average labor rate is $80 per work-hour. Required parts would cost about $1414 per helicopter. Based on these figures, we estimate the cost of the proposed AD on U.S. operators to be $2,770,992, or $1894 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-23-17 Bell Helicopter Textron Canada: Amendment 39-15263. Docket No. FAA-2007-0176; Directorate Identifier 2007-SW-14-AD.

Effective Date

(a) This airworthiness directive (AD) becomes effective December 6, 2007.

Other Affected ADs

(b) None.

Applicability

(c) This AD applies to Model 206A and 206B helicopters, up to and including serial number 3216, with a main rotor latch bolt, part number 206-010-169-001, 206-010-169-003, or 206-011-122-003, certificated in any category.

Reason

(d) The mandatory continued airworthiness information (MCAI) states:

Reevaluation of the structural analysis indicates the need for the removal from service of bolts in this application.

The removal of certain main rotor latch bolts is required because these bolts do not have a mandatory retirement life. Further evaluation has shown that these bolts fail prematurely due to fatigue. This fatigue failure may result in failure of the main rotor and subsequent loss of the helicopter.

Actions and Compliance

(e) Within 30 days, remove from service each main rotor latch bolt that has a P/N that is included in the applicability of this AD and replace it with an airworthy bolt.

Differences Between the FAA AD and the MCAI

(f) None.

Subject

(g) Air Transport Association of America (ATA) Code: 6200 Main Rotor System.

Other Information

(h) The following information also applies to this AD:

(1) Alternative Methods of Compliance (AMOCs): The Manager, Rotorcraft Directorate, Safety Management Group, FAA, has the authority to approve AMOCs for this AD, if requested using the procedures found in 14 CFR 39.19. Send information to ATTN: Sharon Miles, Aviation Safety Engineer, Regulations and Guidance Group, Fort Worth, Texas 76193-0111, telephone (817) 222-5122, fax (817) 222-5961.

(2) Airworthy Product: Use only FAA approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Mandatory continuing Airworthiness Information (MCAI) Transport Canada Airworthiness Directive No. CF-2006-23-R1, dated March 12, 2007, and Bell Helicopter Textron Alert Service Bulletin No. 206-06-109, dated July 25, 2006, contain related information.

Issued in Fort Worth, Texas, on November 2, 2007.
David A. Downey,
Manager, Rotorcraft Directorate, Aircraft Certification Service.

[FR Doc. E7-22415 Filed 11-20-07; 8:45 am]

BILLING CODE 4910-13-P